ENVIRONMENTAL PROTECTION AGENCY

[FRL-6911-7]

Science Advisory Board; Request for Nomination of Members and Consultants

The U.S. Environmental Protection Agency's Science Advisory Board (SAB), including the Clean Air Scientific Advisory Committee (CASAC) and the Advisory Council on Clean Air Compliance Analysis (Council), of the Environmental Protection Agency (EPA) is soliciting nominations for Members and Consultants (M/Cs). As part of this effort, the Agency is publishing this notice to describe the purpose of the SAB and to invite the public to nominate appropriately qualified candidates of any gender or ethnic background to fill upcoming vacancies. This process supplements other efforts to identify qualified candidates.

The SAB is composed of Non-Federal Government scientists and engineers who are employed on an intermittent basis to provide independent advice directly to the EPA Administrator on technical aspects of public health and environmental issues confronting the Agency. Members of the SAB are appointed by the Administrator—generally in October—to serve two years terms with some possibilities for reappointment. Consultants are appointed throughout the year, as the need arises, by the SAB Staff Director to serve renewable one-year terms and serve on SAB committees, as needed, to support the work of the Board. Many individuals serve as Consultants prior to serving as Members.

Any interested person or organization may nominate qualified persons to serve on the SAB. Nominees should be qualified by education, training, and experience to evaluate scientific, engineering and/or economics information on issues referred to and addressed by the Board. Successful candidates have distinguished themselves professionally and should be available to invest the time and effort to advance the cause of the supporting the use of good science through the efforts of the SAB.

Members and Consultants (M/Cs) most often serve in association with one of the following standing committees: Advisory Council on Clean Air Compliance Analysis, Clean Air Scientific Advisory Committee, Drinking Water Committee, Ecological Processes and Effects Committee, Environmental Economics Advisory Committee, Environmental Engineering Committee, Environmental Health Committee, Integrated Human Exposure Committee, Radiation Advisory Committee, and Research Strategies Advisory Committee.

M/Cs can expect to attend 1-6 meetings per year, based upon the activity of the committee on which they serve. M/Cs generally serve as Special Government Employees (SGEs) (40 CFR part 3, subpart F or EPA Ethics Advisory 88-6 dated 7/6/88) and receive compensation, in addition to reimbursement at the Federal government rate for travel and per diem expenses while serving on the SAB. Prior to their appointment, SGEs are required to complete an information package, including a Confidential Financial Disclosure Report.

Membership appointments associated with this solicitation will begin in the fall of 2001. While it is too early to know for certain what types of expertise will be needed, it is likely that at least some of the new members will have expertise in the following areas:

Air pollution effects on plant life.

Criteria air pollutants.

Dietary intake exposure.

Engineering options for risk reduction.

Environmental modeling.

Environmental microbiology.

General toxicology.

Landscape ecology.

Risk assessment modeling.

Nominees should be identified by name, occupation, position, address, telephone number, fax number, email address, and SAB committee of primary interest. Nominations should include a current resume that addresses the nominee's background, experience, qualifications, and specific areas of expertise.

Information on the nominees will be entered into the SAB's data base for potential M/Cs which will be consulted, as appropriate, when vacancies arise and/or when special expertise is needed for particular reviews. This request for nominations does not imply any commitment by the Agency to select individuals to serve as a M/C to the SAB from the responses received.

Nominations should be submitted to: Ms. Carolyn Osborne, Project Coordinator, Science Advisory Board (1400A), USEPA, 1200 Pennsylvania Avenue, Washington, DC 20460 Tel: (202) 564-4533 no later than February 1, 2001. Additional information concerning the Science Advisory Board, its structure, function, and composition, may be found on the SAB Website: http://www.epa.gov/sab.

Dated: November 24, 2000.
Donald G. Barnes,
Staff Director, Science Advisory Board.

[FR Doc. 00-30915 Filed 12-4-00; 8:45 am]

BILLING CODE 6560-50-P